DEPARTMENT OF COMMERCE

Foreign-Trade Zones Board

[B-76-2012]

Foreign-Trade Zone 168—Dallas/Ft. Worth, TX, Authorization of Production Activity, Richemont North America, Inc. dba Cartier (Eyewear Assembly/Kitting), Grand Prairie, TX

On October 17, 2012, Metroplex International Trade Development Corporation, grantee of FTZ 168, submitted a notification of proposed production activity to the Foreign-Trade Zones (FTZ) Board on behalf of Richemont North America, Inc. dba Cartier, within FTZ 168—Site 4, in Grand Prairie, Texas.

The notification was processed in accordance with the regulations of the FTZ Board (15 CFR part 400), including notice in the Federal Register inviting public comment (77 FR 65360, 10/26/2012). The FTZ Board has determined that no further review of the activity is warranted at this time. The production activity described in the notification is authorized, subject to the FTZ Act and the Board's regulations, including Section 400.14.

Dated: February 13, 2013.
Andrew McGilvray,
Executive Secretary.

[FR Doc. 2013-03867 Filed 2-19-13; 8:45 am]

BILLING CODE P